DEPARTMENT OF HOUSING AND URBAN DEVELOPMENT

[Docket No. FR-4736-N-05]

Notice of Proposed Information Collection for Public Comment—Public Housing Agency (PHA) Plan

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comment Due Date: August 27, 2002.

ADDRESSES: Interested persons are invited to submit comments regarding this proposal. Comments should refer to the proposal by name and/or OMB Control number and should be sent to: Mildred M. Hamman, Reports Liaison Officer, Public and Indian Housing, Department of Housing and Urban Development, 451 7th Street, SW., Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Public Housing Agency (PHA) Plan.

OMB Control Number: 2577-0226.

Description of the need for the information and proposed use: Public Housing Agencies (PHAs) submit an annual plan for each fiscal year for which the PHA receives tenant-based assistance and public housing operating subsidy. This plan provides a framework for local accountability and to the extend possible, an easily identifiable source by which public housing residents, participants in the housing choice voucher program, and other members of the public may locate PHA policies, rules and requirements concerning its operations, programs and services. The PHA plan is a web-based application (allowing PHAs to retrieve the applicable templates) that allows PHAs to provide their plans to HUD via the Internet. The system allows HUD to track plan submission and to post received and approved plans. Small PHAs update plans every year with limited reporting and any changes for the previous submission.

Agency form numbers, if applicable: Not applicable.

Members of affected public: State, or Local Government.

Estimation of the total number of hours needed to prepare the information collection including number of respondents, frequency of response, and hours of response: 4,100 respondents total, for annual plan update for small PHAs (approximately 2800) reporting on specific categories and any changes from the previous submission, 16 hours per plan, 43,000 total reporting burden and, for annual plan submission for other PHAs, 56 hours per plan, 43,000 total reporting burden. The total annual reporting burden is 86,000 hours.

Status of the proposed information collection: Extension.

Authority: Section 3506 of the Paperwork Reduction Act of 1995, 44 U.S.C. chapter 35, as amended.

Dated: June 21, 2002.
Paula O. Blunt,
General Deputy Assistant Secretary for Public and Indian Housing.

[FR Doc. 02-16404 Filed 6-27-02; 8:45 am]

BILLING CODE 4210-33-M